DEPARTMENT OF HEALTH AND HUMAN SERVICES

Centers for Medicare & Medicaid Services

[Document Identifier: CMS-1728-19, CMS-10714 and CMS-484, 846, 847, 848, 849, 10125, 10126]

Agency Information Collection Activities: Submission for OMB Review; Comment Request

AGENCY: Centers for Medicare & Medicaid Services, HHS.

ACTION: Notice.

SUMMARY: The Centers for Medicare & Medicaid Services (CMS) is announcing an opportunity for the public to comment on CMS' intention to collect information from the public. Under the Paperwork Reduction Act of 1995 (PRA), federal agencies are required to publish notice in the Federal Register concerning each proposed collection of information, including each proposed extension or reinstatement of an existing collection of information, and to allow a second opportunity for public comment on the notice. Interested persons are invited to send comments regarding the burden estimate or any other aspect of this collection of information, including the necessity and utility of the proposed information collection for the proper performance of the agency's functions, the accuracy of the estimated burden, ways to enhance the quality, utility, and clarity of the information to be collected, and the use of automated collection techniques or other forms of information technology to minimize the information collection burden.

DATES: Comments on the collection(s) of information must be received by the OMB desk officer by March 25, 2020.

ADDRESSES: When commenting on the proposed information collections, please reference the document identifier or OMB control number. To be assured consideration, comments and recommendations must be received by the OMB desk officer via one of the following transmissions: OMB, Office of Information and Regulatory Affairs, Attention: CMS Desk Officer, Fax Number: (202) 395-5806 OR Email: OIRA_submission@omb.eop.gov.

To obtain copies of a supporting statement and any related forms for the proposed collection(s) summarized in this notice, you may make your request using one of following:

1. Access CMS' website address at website address at https://www.cms.gov/Regulations-and-Guidance/Legislation/PaperworkReductionActof1995/PRA-Listing.html.

1. Email your request, including your address, phone number, OMB number, and CMS document identifier, to Paperwork@cms.hhs.gov.

2. Call the Reports Clearance Office at (410) 786-1326.

FOR FURTHER INFORMATION CONTACT: William Parham at (410) 786-4669.

SUPPLEMENTARY INFORMATION: Under the Paperwork Reduction Act of 1995 (PRA) (44 U.S.C. 3501-3520), federal agencies must obtain approval from the Office of Management and Budget (OMB) for each collection of information they conduct or sponsor. The term “collection of information” is defined in 44 U.S.C. 3502(3) and 5 CFR 1320.3(c) and includes agency requests or requirements that members of the public submit reports, keep records, or provide information to a third party. Section 3506(c)(2)(A) of the PRA (44 U.S.C. 3506(c)(2)(A)) requires federal agencies to publish a 30-day notice in the Federal Register concerning each proposed collection of information, including each proposed extension or reinstatement of an existing collection of information, before submitting the collection to OMB for approval. To comply with this requirement, CMS is publishing this notice that summarizes the following proposed collection(s) of information for public comment:

1. Type of Information Collection Request: Revision of a currently approved collection; Title of Information Collection: Home Health Agency Cost Report; Use: Under the authority of sections 1815(a) and 1833(e) of the Social Security Act (42 U.S.C. 1395g), CMS requires that providers of services participating in the Medicare program submit information to determine costs for health care services rendered to Medicare beneficiaries. CMS requires that providers follow reasonable cost principles under 1861(v)(1)(A) of the Act when completing the Medicare cost report. Under the regulations at 42 CFR 413.20 and 413.24, CMS defines adequate cost data and requires cost reports from providers on an annual basis. The Form CMS-1728-19 cost report is needed to determine a provider's reasonable cost incurred in furnishing medical services to Medicare beneficiaries and reimbursement due to or from a provider. The Form CMS-1728-19 cost report is also used for annual rate setting and payment refinement activities, including developing a home health market basket. Additionally, the Medicare Payment Advisory Commission (MedPAC) uses the home health cost report data to calculate Medicare margins, to formulate recommendations to Congress regarding the HHA PPS, and to conduct additional analysis of the HHA PPS. Providers receiving Medicare reimbursement must provide adequate cost data based on financial and statistical records that can be verified by qualified auditors. Form Number: CMS-1728-19 (OMB control number: 0938-0022); Frequency: Yearly; Affected Public: Business or Other for-Profits, Not-for-Profit Institutions; Number of Respondents: 10,196; Total Annual Responses: 10,196; Total Annual Hours: 1,988,220. (For policy questions regarding this collection contact LuAnn Piccione at 410-786-5423.)

2. Type of Information Collection Request: New Collection; Title of Information Collection: Electronic Medical Documentation Interoperability (EMDI) Pre and Post Pilot Measures Survey; Use: The EMDI program assists the Centers for Medicare & Medicaid Services (CMS) Health Information Technology (health IT) standards and interoperability (S&I) initiative, which is to: (1) Facilitate and expand the secure transport of interoperable electronic documentation, (2) utilize and fill in the gaps in the current standards to achieve increased level of interoperability among systems and organizations, and (3) demonstrate the utility of these standards by establishing pilot programs with existing Health Information Handlers, Health Information Service Providers (HISP), and health care providers.

The EMDI Initiative, associated documentation, and pilots are for the purposes of evaluating the performance of CMS policies that involve interoperability and the collection of data/information only. The collected data/information will help CMS, and the EMDI team in determining the overall effectiveness of piloting the EMDI program, as well as assessing each provider's current ability to send, and receive electronic data. Form Number: CMS-10714 (OMB control number: 0938-New); Frequency: Yearly; Affected Public: Private Sector (Business or other for-profit, not-for-profit institutions); Number of Respondents: 240; Total Annual Responses: 240; Total Annual Hours: 120. For policy questions regarding this collection contact Christopher Lofts at 410-786-4076.

3. Type of Information Collection Request: Extension without change of a currently approved collection; Title of Information Collection: Durable Medical Equipment Medicare Administrative Contractor Certificate of Medical Necessity and Supporting Documentation Requirements; Use: The certificates of medical necessity (CMNs) collect information required to help determine the medical necessity of certain items. CMS requires CMNs where there may be a vulnerability to the Medicare program. Each initial claim for these items must have an associated CMN for the beneficiary. Suppliers (those who bill for the items) complete the administrative information (e.g., patient's name and address, items ordered, etc.) on each CMN. The 1994 Amendments to the Social Security Act require that the supplier also provide a narrative description of the items ordered and all related accessories, their charge for each of these items, and the Medicare fee schedule allowance (where applicable). The supplier then sends the CMN to the treating physician or other clinicians (e.g., physician assistant, LPN, etc.) who completes questions pertaining to the beneficiary's medical condition and signs the CMN. The physician or other clinician returns the CMN to the supplier who has the option to maintain a copy and then submits the CMN electronically to CMS, along with a claim for reimbursement. Form Numbers: CMS-484, 846, 847, 848, 849, 10125, 10126 (OMB control number: 0938-0679); Frequency: Occasionally; Affected Public: Individuals or Households; Number of Respondents: 1,335,658; Total Annual Responses: 1,335,658; Total Annual Hours: 267,132. For policy questions regarding this collection contact Melissa Singer at 410-786-0365.

Dated: February 19, 2020.
William N. Parham, III,
Director, Paperwork Reduction Staff, Office of Strategic Operations and Regulatory Affairs.

[FR Doc. 2020-03633 Filed 2-21-20; 8:45 am]

BILLING CODE 4120-01-P